DEPARTMENT OF COMMERCE

National Oceanic and Atmospheric Administration

Availability of Seats for the Fagatele Bay National Marine Sanctuary Advisory Council

AGENCY: National Marine Sanctuary Program (NMSP), National Ocean Service (NOS), National Oceanic and Atmospheric Administration, Department of Commerce (DOC).

ACTION: Notice and request for applications.

SUMMARY: The Fagatele Bay National Marine Sanctuary is seeking applicants for the following vacant seats on its Sanctuary Advisory Council (Council): Non Government Seat: Fishing/Western Pacific Fisheries Management Council member (voting). Applicants are chosen based upon their particular expertise and experience in relation to the seat for which they are applying; community and professional affiliations; philosophy regarding the protection and management of marine resources; and possibly the length of residence in the area affected by the Sanctuary. Applicants who are chosen as members should expect to serve 2-year terms, pursuant to the Council's Charter.

DATES: Applications are due by October 23, 2006.

ADDRESSES: Application kits may be obtained from Bill Kiene and Fagatele Bay National Marine Sanctuary Program, P.O. Box 4318, Pago Pago, AS, 96799. Completed applications should be sent to the same address.

FOR FURTHER INFORMATION CONTACT: Bill Kiene, P.O. Box 4318, Pago, Pago, AS 96799, (684) 633-7354, and William.kiene@noaa.gov.

Authority: 16 U.S.C. 1431, et seq.

(Federal Domestic Assistance Catalog Number 11.429 Marine Sanctuary Program).

Dated: October 2, 2006.
Daniel J. Basta,
Director, National Marine Sanctuary Program, National Ocean Services, National Oceanic and Atmospheric Administration.

[FR Doc. 06-8618 Filed 10-11-06; 8:45 am]

BILLING CODE 3510-NK-M